SOCIAL SECURITY ADMINISTRATION

[Social Security Ruling, SSR 11-2p; Docket No. SSA-2010-0079]

Titles II and XVI: Documenting and Evaluating Disability in Young Adults

AGENCY: Social Security Administration.

ACTION: Notice of Social Security Ruling (SSR).

SUMMARY: In accordance with 20 CFR 402.35(b)(1), the Commissioner of Social Security gives notice of Social Security Ruling, SSR-11-2p. This Ruling explains our policy on documenting and evaluating disability in young adults.

DATES: Effective Date: September 12, 2011.

FOR FURTHER INFORMATION CONTACT: Cheryl A. Williams, Office of Disability Programs, Social Security Administration, 6401 Security Boulevard, Baltimore, MD 21235-6401, (410) 965-1020.

SUPPLEMENTARY INFORMATION: Although we are not required to do so pursuant to 5 U.S.C. 552(a)(1) and (a)(2), we are publishing this SSR in accordance with 20 CFR 402.35(b)(1).

Through SSRs, we make available to the public precedential decisions relating to the Federal old-age, survivors, disability, supplemental security income, special veterans benefits, and black lung benefits programs. We may base SSRs on determinations or decisions made at all levels of administrative adjudication, Federal court decisions, Commissioner's decisions, opinions of the Office of the General Counsel, or other interpretations of the law and regulations.

Although SSRs do not have the same force and effect as statutes or regulations, they are binding on all of our components. 20 CFR 402.35(b)(1).

This SSR will be in effect until we publish a notice in the Federal Register that rescinds it, or publish a new SSR that replaces or modifies it.

(Catalog of Federal Domestic Assistance, Program Nos. 96.001, Social Security—Disability Insurance; 96.002, Social Security—Retirement Insurance; 96.004—Social Security—Survivors Insurance; 96.006—Supplemental Security Income)

Dated: September 6, 2011.
Michael J. Astrue,
Commissioner of Social Security.

Policy Interpretation Ruling

Titles II and XVI: Documenting and Evaluating Disability in Young Adults

Purpose: This SSR consolidates information from our regulations on documenting and evaluating disability in young adults. We also provide guidance on how we apply our policies when we determine whether a young adult is disabled under our rules.

Citations (Authority): Sections 216(i), 222(c), 223(a), 223(c), 223(d), 223(f), 225(b), 1614(a)(3), 1614(a)(4), 1619, and 1631(a) of the Social Security Act, as amended; Regulations No. 4, subpart B, section 404.130; subpart D, sections 404.316, 404.327-404.330, 404.339-404.340, 404.348, 404.350, 404.352, and 404.354; subpart P, sections 404.1505, 404.1509-404.1510, 404.1513, 404.1520-404.1521, 404.1525-404.1527, 404.1545-404.1546, 404.1560-404.1569a, 404.1571-404.1576, 404.1584, 404.1590, 404.1594, appendix 1 and appendix 2; and Regulations No. 16, subpart I, sections 416.902, 416.905, 416.909-416.910, 416.913, 416.920-416.921, 416.924a, 416.925-416.927, 416.945-416.946, 416.960-416.969a, 416.971-416.976, 416.987, 416.990, and 416.994, and subpart M, sections 416.1320, 416.1331, and 416.1338.

Introduction

We consider people between the ages of 18 to approximately 25 to be young adults. When we make disability determinations or decisions for young adults, we use the same definition for disability as we do for other adults.¹ We also use adult rules to make disability determinations or decisions in several other situations:

¹ Under title II, we sometimes use the adult definition of disability to make disability determinations or decisions for people under age 18. In these situations, we will use the guidance in this SSR when we make our determination or decision.

• When a young adult files a claim for child ² benefits on a parent's record based on a disability that began before he or she attained age 22;

² For purposes of title II entitlement, a “child” is a person who has the required relationship to the insured worker. See 20 CFR 404.330, 404.339-404.340, 404.348, 404.350, and 404.354.

• When a child ³ who is receiving title XVI childhood disability benefits attains age 18 and must undergo a disability redetermination; ⁴ and

³ For purposes of determining disability under title XVI, a “child” is “a person who has not attained age 18.” See 20 CFR 416.902.

⁴ See 20 CFR 416.987.

• When a young adult receiving disability benefits under title II or XVI undergoes a continuing disability review (CDR) to determine whether he or she is still disabled.⁵

⁵ See 20 CFR 404.1590 and 416.990.

Like other adults, a young adult who applies for disability benefits under title II or XVI ⁶ is “disabled” if he or she has a medically determinable physical or mental impairment(s) ⁷ that results in “an inability to do any substantial gainful activity.” ⁸

⁶ For simplicity, we refer in this SSR only to initial claims for benefits. However, the policy interpretations in this SSR also apply, with some exceptions, to age-18 redeterminations under section 1614(a)(3)(H)(iii) of the Act and 20 CFR 416.987 and to CDRs under sections 223(f) and 1614(a)(4) of the Act and 20 CFR 404.1594 and 416.994. When there is a difference in how the policy applies to age-18 redeterminations or to CDRs, we explain how the policy differs.

⁷ We use the term “impairment(s)” in this SSR to refer to an “impairment or a combination of impairments.”

⁸ The impairment(s) must also satisfy the duration requirement in sections 216(i)(1), 223(d)(1)(A), and 1614(a)(3)(A) of the Act; that is, it must be expected to result in death or must have lasted or be expected to last for a continuous period of not less than 12 months. See also 20 CFR 404.1505, 404.1509, 416.905, and 416.909.

We use a five-step sequential evaluation process to determine disability:

1. Is the person engaging in substantial gainful activity (SGA)? ⁹ If yes, the person is not disabled.

⁹ For the definition of SGA and the rules for how we determine whether work shows that a person has the ability to do SGA, see 20 CFR 404.1510, 404.1571-404.1576, 404.1584, and 416.910, and 416.971-416.976.

2. Does the person have a medically determinable physical or mental impairment(s) that is severe? ¹⁰ If no, the person is not disabled.

¹⁰ An impairment(s) is not severe if it does not significantly limit the person's physical or mental ability to do basic work activities. 20 CFR 404.1521 and 416.921.

3. Does the person have an impairment(s) that meets or medically equals a listing in the Listing of Impairments (listings)? ¹¹ If yes and the impairment(s) meets the duration requirement, the person is disabled.

¹¹ The rules for how we determine whether an impairment(s) meets or medically equals a listing are in 20 CFR 404.1525, 404.1526, 416.925, and 416.926. The listings are at 20 CFR part 404, subpart P, appendix 1.

4. Does the person have the residual functional capacity (RFC) ¹² to do past relevant work? If yes, the person is not disabled.

¹² The basic rules for RFC are in 20 CFR 404.1545-404.1546, 404.1569a, 416.945-416.946, and 416.969a. See also SSR 96-8p, 61 FR 34474 (1996), available at: http://www.socialsecurity.gov/OP_Home/rulings/di/01/SSR96-08-di-01.html. (For the complete titles of all SSRs cited in this footnote and those following, see the CROSS-REFERENCES section at the end of this SSR).

5. Does the person have the RFC to adjust to other work that exists in significant numbers in the national economy, considering his or her age, education, and previous work experience? ¹³ If no, the person is disabled. If yes, the person is not disabled.¹⁴

¹³ The rules for determining whether a person can adjust to other work are in 20 CFR 404.1560-404.1569a, 20 CFR part 404, subpart P, appendix 2, and 20 CFR 416.960-416.969a.

¹⁴ See 20 CFR 404.1520 and 416.920. The sequential evaluation process for age-18 redeterminations follows the process we use for initial claims, except that we do not consider whether the person is engaging in SGA (step 1). See 20 CFR 416.987. Unlike the sequential evaluation process for initial claims, the sequential evaluation process for CDRs first considers whether there has been medical improvement related to the ability to work. See 20 CFR 404.1594 and 416.994.

This SSR explains the evidence we need to document a young adult's impairment-related limitations, other considerations for evaluating limitations, disability insured status, issues related to the sequential evaluation process, and resolving inconsistencies in the evidence. We also discuss continued payments for young adults participating in vocational rehabilitation plans.

Policy Interpretation

The abilities, skills, and behaviors that young adults use to do basic work activities are essentially the same as those that older adolescents ¹⁵ use for age-appropriate activities.¹⁶ Thus, the evidence we consider when we make disability determinations for young adults is generally the same as, or similar to, the evidence we consider for making disability determinations for older adolescents under title XVI. Because the abilities, skills, and behaviors are essentially the same, the same considerations for evaluating limitations in an older adolescent also apply to young adults.

¹⁵ An adolescent is a child “age 12 to the attainment of age 18.” See 20 CFR 416.926a. An older adolescent is a child approximately age 16 to the attainment of age 18.

¹⁶ See, for example, 20 CFR 416.926a(g)-(k). We include examples of work and work-related activities in the sections describing the domains for adolescents.

I. Sources of Evidence About a Young Adult's Ability To Work

Once we have evidence from an acceptable medical source ¹⁷ that establishes the existence of at least one medically determinable impairment (MDI), we consider all relevant evidence in the case record to determine whether a young adult is disabled. This evidence may come from acceptable medical sources and from a wide variety of “other sources.” ¹⁸ Although we always need evidence from an acceptable medical source, we will determine what other evidence we need based on the facts of the case.

¹⁷ See 20 CFR 404.1513(a) and 416.913(a).

¹⁸ See 20 CFR 404.1513(d) and 416.913(d). For more information about how we consider opinion evidence from “other sources,” including opinions about functional limitations, see SSR 06-03p, 71 FR 45593 (2006), available at: http://www.socialsecurity.gov/OP_Home/rulings/di/01/SSR2006-03-di-01.html. For information about how we consider opinion evidence from acceptable medical sources, see generally 20 CFR 404.1527 and 416.927.

A. Medical Sources

1. In addition to providing evidence establishing an MDI, acceptable medical sources can provide information about how an impairment(s) affects a young adult's ability to do work-related activities. For example, a physician might discuss the impact of asthma on a young adult's participation in physical activities, or a speech-language pathologist might discuss how a language disorder contributes to limited attention and problems on a job.

2. We may receive evidence from other medical sources who are not “acceptable medical sources,” such as nurse-practitioners, physicians' assistants, naturopaths, chiropractors, audiologists, occupational therapists (OTs), physical therapists (PTs), and psychiatric social workers (PSWs). We cannot use evidence from these sources to establish that a young adult has an MDI. However, we can use evidence from these sources to determine the severity of the impairment(s) and how it affects the young adult's ability to do work-related activities. This evidence can be very helpful, especially if a source sees the young adult regularly. For example:

• A PSW might comment on the young adult's ability to deal with changes in a routine work setting.

• An OT or PT might evaluate the impact of a neurological disorder on the young adult's activities and comment on muscle tone and strength and how it affects his or her ability to stand and walk.

• An OT might comment on the young adult's ability to use fine motor skills to use a computer.

B. Non-Medical Sources

Evidence from other sources who are not medical sources, but who know and have contact with the young adult, can also help us evaluate the severity and impact of a young adult's impairment(s). These sources include family members, educational personnel (for example, teachers and counselors), public and private social welfare agency personnel, and others (for example, friends, neighbors, and clergy). Therefore, we consider evidence in the case record from non-medical sources when we determine the severity of the young adult's impairment(s) and how the young adult is able to function.

C. School Programs

Evidence from school programs, including secondary and post-secondary schools, can also help us evaluate the severity and impact of a young adult's impairment(s).

1. Many young adults who received special education (including transition services) or related services ¹⁹ before they attained age 18 continue to receive these services until they are age 22. Other young adults may participate in postsecondary programs, including college or vocational training.²⁰

¹⁹ In this context, special education refers to instructional services provided to students through age 21 in primary and secondary education under the Individuals with Disabilities Education Improvement Act of 2004 (commonly referred to as “IDEA”).

Transition services means a coordinated set of special education services that is designed to facilitate the student's movement from school to post-school activities, including postsecondary education, vocational education, integrated employment, independent living, or community participation. Such services include instruction, related services, community services, the development of employment and other post-school adult living objectives, and, if appropriate, acquisition of daily living skills and provision of a functional vocational evaluation.

Related services include transportation and developmental, corrective, and other supportive services (for example, occupational therapy) as are required to assist a student with a disability to benefit from special education. A student who does not qualify for special education may qualify for related services under section 504 of the Rehabilitation Act of 1973 to ensure a free, appropriate public education.

²⁰ The Higher Education Opportunity Act of 2008 authorizes postsecondary educational services for students with disabilities.

2. Young adults who receive special education services after age 17 will have an Individualized Education Program (IEP),²¹ including an IEP transition plan. The IEP transition plan describes a student's levels of functioning based on reasonable estimates by both the student and the special education team. It also identifies the kinds of vocational and living skills the young adult needs to develop in order to function independently as an adult.

²¹ We provide an extensive discussion of IEPs in SSR 09-2p, 74 FR 7625 (2009), available at: http://www.socialsecurity.gov/OP_Home/rulings/ssi/02/SSR2009-02-ssi-02.html. The information about IEPs applies equally to people age 18-22 who are still in special education. We may also consider IEPs from a period before the person attained age 18 (for example, senior year of high school) if they are relevant to the period we are considering in connection with an application, age-18 redetermination, or CDR. Recent IEPs will frequently be relevant in age-18 redeterminations.

3. The IEP transition goals may range from the development of skills appropriate to supervised and supported work and living settings to those needed in independent work and living situations. For example, an IEP transition goal for an 18-year-old might be, “The student will independently use public transportation,” while specific objectives would identify the skills to be developed (for example, reading a bus schedule) and the particular instruction methods to be used to develop the skills (for example, one-to-one tutoring with practice reading a bus schedule).

4. The goals in an IEP may be set at a level that the young adult can readily achieve to foster a sense of accomplishment and may be lower than what would be expected of a young adult without impairments. In this regard:

• A young adult who achieves a goal may or may not have limitations. The young adult may be developing or acquiring skills at a slower rate than young adults without impairments and may have achieved the goal simply because it was set low.

• A young adult who does not achieve a goal likely has an impairment-related limitation(s). A young adult's failure to achieve a goal, however, does not, by itself, establish that the impairment(s) is disabling.

II. Considerations Related To Evaluating a Young Adult's Impairment-Related Limitations

We evaluate a young adult's impairment-related limitations when we:

• Determine whether his or her MDI(s) is “severe”—that is, significantly limits his or her physical or mental ability to do basic work activities;

• Determine whether his or her MDI(s) meets or medically equals a listed impairment; and

• Assess his or her RFC.

The examples in the sections below do not necessarily establish that a young adult is disabled, only that the person may have limitations that affect what work he or she may be able to do.

A. Evidence Regarding Functioning From Educational Programs

As we discussed in section I.C above, we may have evidence about a young adult's functioning from school programs, including IEPs. This evidence may indicate how well a young adult can use his or her physical or mental abilities to perform work activities. The following examples of school-reported difficulties might indicate difficulty with work activities:

• Difficulty in understanding, remembering, and carrying out simple instructions and work procedures during a school-sponsored work experience;

• Difficulty communicating spontaneously and appropriately in the classroom;

• Difficulty with maintaining attention for extended periods in a classroom;

• Difficulty relating to authority figures and responding appropriately to correction or criticism during school or a work-study experience;

• Difficulty using motor skills to move from one classroom to another.

B. Community Experiences, Including Job Placements

1. A young adult may receive services in a community setting(s) through a school or a community agency, such as a mental health center or vocational rehabilitation agency. These services may include:

• Community-based instruction (CBI), or instruction in a natural, age-appropriate setting (for example, trips to the grocery store to develop math, sequencing, travel, and social skills).

• On-the-job training (OJT), or placement in various work sites in the community for vocational training and experience, frequently in an “enclave” (small group) of students with a job coach (for example, placement in an enclave in a motel to learn housekeeping tasks such as bed-making and vacuuming).

• Work experience, or supervised part-time or full-time employment to assist a young adult in acquiring job skills and good work attitudes and habits.

2. A young adult may participate in several—or even many—OJT or work experience placements that are unpaid, paid at SGA levels, or paid at less than SGA levels. Some young adults have multiple placements as part of a transition plan that expose them to a variety of work settings. Other young adults have multiple placements because of unsatisfactory performance.

Regardless of whether the work was SGA, information about how well a young adult performed in these placements can help us assess how the young adult functions. For example, a young adult who was unable to sustain OJT placements may have limitations in the ability to understand and remember instructions or to persist at work-related tasks. In contrast, a young adult who performed OJT placements successfully may have a good ability to respond appropriately to supervision. In addition, information about the degree to which a young adult needs special supports in order to work (such as in supported or transitional employment programs) may also help us assess the young adult's functioning.

C. Psychosocial Supports and Highly Structured or Supportive Settings

As for all adults, psychosocial supports and highly structured or supportive settings may reduce the demands on a young adult and help him or her function. However, the young adult's ability to function in settings that are less demanding, more structured, or more supportive than those in which people typically work does not necessarily show how the young adult will be able to function in a work setting. We will consider the kind and extent of support or assistance and the characteristics of any structured setting in which the young adult spends his or her time when we evaluate the effects of his or her impairment(s) on functioning.

D. Extra Help and Accommodations

Working requires a person to be able to do the tasks of a job independently, appropriately, effectively, and on a sustained basis. In this regard, the analysis for adult disability determination purposes is similar to our “extra help” rules for children.²² If an adult with an impairment(s) needs or would need greater supervision or assistance, or some other type of accommodation, because of the impairment(s) than an employee who does not have an impairment, the adult has a work-related limitation.

²² See, 20 CFR 416.924a(b)(5)(ii).

We consider how independently a young adult is able to function, including whether the young adult needs help from other people or special equipment, devices, or medications to perform day-to-day activities. If a young adult can function only if he or she receives more help than would generally be provided to people without medical impairments, we consider how well the young adult would function without the extra help. The more extra help or support of any kind that a young adult receives because of his or her impairment(s), the less independent he or she is in functioning, and the more severe we will find the limitation to be.

1. Accommodations

a. Accommodations are practices and procedures that allow a person to complete the same activity or task as other people. Accommodations can include a change in setting, timing, or scheduling, or an assistive or adaptive device.

b. Some young adults with impairments need accommodations in their educational program in order to participate in the general curriculum or in a transitional program.²³ The fact that a young adult receives or has received accommodations as a part of his or her IEP or Section 504 plan,²⁴ may be an indication that he or she has a work-related limitation. For example, evidence showing that a student requires an audiotape recording of oral directions for replay at school because he cannot remember more than a one-step instruction might indicate that the student will have the same inability to remember more than a one-step instruction without special assistance in a work setting.

²³ We provide more detail about accommodations in IEPs in SSR 09-2p.

²⁴ Section 504 of the Rehabilitation Act of 1973 prohibits discrimination on the basis of disability in programs and activities that receive Federal financial assistance. P.L. 93-112, section 504; 29 U.S.C. 794(a), as amended. Under this section, schools must provide a free, appropriate public education to each student with a disability. See 34 CFR 104.33(a). When a student has a disability that limits his or her access to the educational setting, the school will conduct an evaluation of specific areas of educational need and, if necessary, have a written plan for the aids and services that will be provided.

c. Some accommodations may indicate an impairment(s) that meets or medically equals a listing. For example, the need for an augmentative or alternative communication or AAC device (for example, an electronic picture board or an electrolarynx) might indicate a speech impairment that meets listing 2.09 or an impairment that meets one of the neurological listings in section 11.00 of the listings.

d. When we determine whether a person can perform his or her past relevant work, we do not consider potential accommodations unless his or her employer actually made the accommodation. This means that we cannot find that a young adult can do past relevant work with accommodations unless the young adult actually performed that work with those same accommodations and is still able to do so now.

e. When we determine whether a person can do other work that exists in significant numbers in the national economy, we do not consider whether he or she could do so with accommodations, even if an employer would be required to provide reasonable accommodations under the Americans with Disabilities Act of 1990.²⁵

²⁵ The Americans with Disabilities Act of 1990 requires an employer to provide “reasonable accommodations” to a qualified person with a disability. See § 101, 104 Stat. 331, 42 U.S.C. 12111(9); and SSR 00-1c, 65 FR 1215 (2000), available at: http://www.socialsecurity.gov/OP_Home/rulings/di/01/SSR2000-01-di-01.html.

2. Effects of Treatment, Including Medications

Treatment, including medications, can have a positive effect on a person's ability to function in a work setting. For example, a young adult who takes an antidepressant medication may be able to interact appropriately with supervisors and co-workers. Treatment, however, may not resolve all of the functional limitations that result from an impairment(s). Medications or other treatment may cause side effects that affect the mental or physical ability to work. For example, an anti-epileptic medication may cause drowsiness that affects the ability to concentrate; daily chest percussion therapy for cystic fibrosis may cause fatigue because of the physical effort involved in the therapy. The frequency of a young adult's treatment may preclude him or her from maintaining a full-time work schedule; that is, 8 hours a day, 5 days a week on a sustained basis.

E. Work-Related Stress

1. Working involves many factors and demands that can be stressful. For example, some people may experience stress related to the demands of getting to work regularly, having work performance supervised, or remaining in the workplace for a full day, 5 days a week on a sustained basis. Moreover, one person's reaction to stress associated with the demands of work may be different from another's, even among people with the same impairments.

2. Sources familiar with the young adult may provide insight about the effect of stress on his or her physical or mental functioning and what, if any, psychosocial supports or structure he or she would need when experiencing work-related stress.²⁶ We consider impairment-related limitations created by a person's response to the demands of work when we assess RFC.

²⁶ See SSR 85-15 for further discussion of mental disorders and stress. SSR 85-15 is available at: http://www.socialsecurity.gov/OP_Home/rulings/di/02/SSR85-15-di-02.html.

III. Insured Status for Young Adults

A. When a young adult has worked, we consider whether he or she is insured for purposes of establishing a period of disability or becoming entitled to disability insurance benefits. While the Social Security Act provides the standard for determining insured status for young adults aged 21 up to age 24, there is no similar statutory standard for young adults under the age of 21. We use the same rule for both groups—a young adult meets the disability insured status requirements if he or she has 6 quarters of coverage in the 12-quarter period ending with the quarter in which the disability began.²⁷

²⁷ Claimants age 24 to the attainment of age 31 meet the disability insured status requirement when they have quarters of coverage in at least one-half of the quarters beginning with the quarter after the quarter they attained age 21 and ending with the quarter in which disability began. For example, a claimant who becomes disabled in the quarter in which he or she attains age 25 needs 8 quarters of coverage during the 16 quarters ending in the quarter in which he or she became disabled. If the number of quarters in the period we are considering is an odd number, we reduce it by one to determine how many quarters of coverage the young adult needs. See 20 CFR 404.130(c).

B. When our records do not establish disability insured status but the claimant alleges sufficient work and earnings for that purpose, we will look to see if there are any covered earnings that are not yet shown in our records. Covered earnings from an unsuccessful work attempt may also provide work credits that can establish disability insured status.

IV. Determining Disability

A. Determining Whether a Young Adult's Work Activity is SGA ²⁸

²⁸ The SGA step of the sequential evaluation process applies only to applications under titles II and XVI and to CDRs under title II. We do not consider the SGA step in age-18 redeterminations or in title XVI CDRs. See 20 CFR 416.987(b) for the rules on determining disability in age-18 redeterminations. See 20 CFR 416.994(b)(5) for the sequential evaluation process for title XVI CDRs for adults.

When we determine a young adult's earnings for SGA purposes, we count only those earnings that are attributable to his or her own productivity. We assume that a young adult's reported earnings are attributable to his or her own productivity unless there is evidence indicating that those earnings are greater than would be attributable to his or her productivity.

1. Work Activity

Many young adults with disabilities have worked. The work experience may have been (or may be, if the person is still working) subsidized, in a sheltered setting, or performed under special conditions. As for any adult, we exclude subsidized earnings.²⁹ In addition:

²⁹ See 20 CFR 404.1574 and 416.974 for evaluating work as an employee and 20 CFR 404.1575 and 416.975 for work in self-employment. See also SSR 83-33, and SSR 83-34. SSR 83-33 is available at: http://www.ssa.gov/OP_Home/rulings/di/03/SSR83-33-di-03.html; SSR 83-34 is available at: http://www.ssa.gov/OP_Home/rulings/di/03/SSR83-34-di-03.html.

• Some young adults whose impairments arose during military service continue on active duty and receive full pay while they are in treatment for their impairments. They may also receive payments while working in a designated therapy program or on limited duty. Active duty status or receipt of pay (for example, sick pay) by a member of the military does not indicate by itself that the service person has demonstrated the ability to do SGA. We will consider the actual work activity, not the amount of pay the service person receives or the duty status of the service person, when we determine whether the work is SGA.³⁰

³⁰ See 20 CFR 404.1574(a)(3) and 416.974(a)(3) and SSR 84-24: Titles II and XVI. SSR 84-24 is available at: http://www.ssa.gov/OP_Home/rulings/di/03/SSR84-24-di-03.html.

• Young adults may have impairment-related work expenses; that is, expenses for an item or service that directly enables a person to work and that the person necessarily incurs because of an impairment(s). We deduct impairment-related work expenses from a person's wages or self-employment income before we determine whether the wages or self-employment income constitute SGA.³¹

³¹ See 20 CFR 404.1576 and 416.976 and SSR 84-26. SSR 84-26 is available at: http://www.ssa.gov/OP_Home/rulings/di/03/SSR84-26-di-03.html.

2. Volunteer Service

Young adults with disabilities may participate in government-sponsored programs for volunteer activity, such as AmeriCorps VISTA. We do not count as earnings payments a person receives from some of these programs.³²

³² See 20 CFR 404.1574(d), 416.974(d), and SSR 84-24.

3. Unsuccessful Work Attempts

Some people have brief periods of work with earnings at the SGA level. We will consider the possibility that a brief period of work was an unsuccessful work attempt when we are determining whether the work was SGA. If a period of work is an unsuccessful work attempt, we will not consider that work to be SGA when we determine if the young adult is under a disability.³³ However, as we noted in section III.A, covered wages or self-employment income from an unsuccessful work attempt may provide work credits that establish disability insured status under title II.

³³ See 20 CFR 404.1574(c) and 416.974(c) for employees and 404.1575(d) and 416.975(d) for self-employed; see also SSR 84-25 and SSR 05-2, 70 FR 9692 (2005). SSR 84-25 is available at: http://www.ssa.gov/OP_Home/rulings/di/03/SSR84-25-di-03.html; SSR 05-02 is at: http://www.ssa.gov/OP_Home/rulings/di/03/SSR2005-02-di-03.html.

B. Determining Whether the Young Adult Has an MDI(s)

Young adults often have the same kinds of impairments as children; for example, attention deficit/hyperactivity disorder, language disorders, or learning disorders. Sometimes, the impairment may be evident before age 18; at other times, the impairment may not be identified until later. We will consider all MDIs the young adult has, including MDIs that are usually found in children.

C. Determining Whether a Young Adult Can Do Past Relevant Work

Many young adults have performed work that was SGA for at least brief periods. This work will usually meet the 15-year recency test for past relevant work. If the work also lasted long enough for the young adult to learn to do it, it will be past relevant work.³⁴ We do not consider work done during a period of entitlement to disability benefits under title II or title XVI to be past relevant work; ³⁵ however, we may consider the young adult's job performance when we assess his or her RFC.

³⁴ 20 CFR 404.1560 and 416.960; see also SSR 82-61 and SSR 82-62. SSR 82-61 is available at: http://www.socialsecurity.gov/OP_Home/rulings/di/02/SSR82-61-di-02.html; SSR 82-62, at: http://www.socialsecurity.gov/OP_Home/rulings/di/02/SSR82-62-di-02.html.

³⁵ 20 CFR 404.1594(i) and 416.994(b)(8)

D. Determining Whether a Young Adult Can Adjust to Other Work

1. As for any adult, we consider a young adult's RFC, age, education, and work experience to determine if he or she can make an adjustment to other work. A young adult does not need to have an impairment(s) that meets or medically equals a listing to qualify for disability benefits. We may find that a young adult is disabled because of an inability to adjust to other work.

2. When a young adult has only exertional (strength) limitations and has an RFC and vocational factors that match the criteria of a rule in the Medical-Vocational Guidelines in appendix 2 of subpart P of the Regulations No. 4 (grid rules), the grid rules always direct a decision of “not disabled” for young adults.

3. In many young adult cases, however, the grid rules will not direct a conclusion of “disabled” or “not disabled.” For example, many young adults who qualify for disability benefits have impairments (such as mental and neurological disorders) that cause non-exertional limitations. These limitations may erode the occupational base at some, or even all, levels of exertion.³⁶ Other young adults have solely exertional limitations but are unable to do a full range of work in one of the exertional categories in appendix 2. Some young adults have limitations that prevent them from performing even the full range of sedentary work. In these cases, we consider the type and extent of the young adult's limitations and the extent of the erosion of the occupational base and other relevant factors. The following guidelines apply:

³⁶ See 20 CFR 404.1545(c) and 416.945(c).

a. If the young adult has solely exertional limitations but is able to do somewhat more than the full range of sedentary work, the young adult will not be disabled based on a framework of a grid rule. In this case, the exertional capacity will always fall between two rules (that is, a sedentary and a light rule) that direct a conclusion of “not disabled.” ³⁷

³⁷ See 20 CFR 404.1569 and 416.969 and SSR 83-14. SSR 83-14 is available at: http://www.ssa.gov/OP_Home/rulings/di/02/SSR83-14-di-02.html.

b. If a young adult has solely nonexertional limitations or both exertional and nonexertional limitations, we follow the guidance in the regulations and the relevant SSRs to determine any erosion of the occupational base.³⁸ If the occupational base is significantly eroded, we will find the young adult disabled despite his or her young age.³⁹

³⁸ See, for example, SSRs 83-12; 83-14; 85-15; and 96-9p, 61 FR 34478 (1996). SSR 83-12 is available at: http://www.socialsecurity.gov/OP_Home/rulings/di/02/SSR83-12-di-02.html; SSR 96-9p, at: http://www.socialsecurity.gov/OP_Home/rulings/di/01/SSR96-09-di-01.html.

³⁹ See 20 CFR part 404, subpart P, appendix 2, § 201.00(h)(3) and SSR 96-9p.

c. If a young adult has a substantial loss of one or more of the basic mental demands of competitive, remunerative, unskilled work, the occupational base will be significantly eroded, despite vocational factors that we would ordinarily consider favorable (for example, young age, college education, and skilled work experience).⁴⁰ The basic mental demands of competitive, remunerative, unskilled work include the abilities to:

⁴⁰ See SSR 85-15 and SSR 96-9p.

• Understand, remember, and carry out instructions;

• Make simple work-related judgments typically required for unskilled work;

• Respond appropriately to supervision, coworkers, and work situations; and

• Deal with changes in a routine work setting.

d. Adjudicators must remember that young adults are more likely to have recent educational experience that provides for direct entry into skilled work; some will also have vocational experiences (see section C. above) that provide them with skills they can use in skilled or semiskilled work.

4. A young adult needs only basic communication abilities to do unskilled work.⁴¹ Basic communication abilities include the ability to hear and understand simple oral messages, including instructions, and to communicate simple messages orally. If the person has these basic communication abilities, there will not be a significant impact on the unskilled occupational base.

⁴¹ See SSR 96-9p.

a. Nevertheless, when a person has a physical or mental impairment(s) that affects communication, it is important to consider the nature of the impairment and whether the person has other associated limitations. Many disorders that cause limitations in basic communication may cause other limitations as well. For example, a physical disorder like cerebral palsy that can affect a person's facial muscles and limit the ability to communicate simple messages orally may also affect the arm muscles and limit the ability to lift and carry. Language disorders, as well as mental and neurological impairments commonly found in young adults who allege disability, may also cause limitations in abilities such as the ability to concentrate, persist, or maintain pace in job tasks, and the ability to adapt to changes in a work setting.

b. Language disorders are not the only kinds of impairments that can affect communication. Some physical impairments may also affect communication, particularly speech. For example, congenital or acquired facial deformities may affect speech because a person cannot use his or her facial muscles for articulation; cerebral palsy may affect speech because of muscle spasms that make it difficult to speak clearly.

5. Under the grid rules, we find younger individuals not disabled even if we determine that their vocational factor of education is “illiterate.”

a. However, a young adult's educational level can be an indication of an underlying impairment(s) that affects our assessment of RFC.⁴² For example, if a young adult, despite having attended high school, is illiterate or has a limited reading ability, he or she may have an MDI, such as a learning disability or language disorder. Any such underlying MDI may affect a young adult's RFC. As we noted in Section III.F.4.b, these types of disorders can cause limitations in many areas.

⁴²

b. When illiteracy or limited reading ability is related to an MDI, we consider how the underlying MDI affects the person's ability to meet the requirements of work when we assess RFC. For example, a person who has borderline intellectual functioning (BIF) may be limited in her ability to understand and remember instructions, which results in an inability to read and write. The BIF also affects her ability to maintain attention on tasks that she has difficulty remembering. When we assess her RFC, we assess limitations in maintaining attention as well as in understanding and remembering instructions. When we determine whether she can do other work, we consider the vocational factor of illiteracy.⁴³

⁴³ The impairment need not be mental. The same principles apply to adults as in the 2009 SSRs for children. Those SSRs provide examples of how physical impairments, especially neurological impairments and their associated medical treatments, can affect various functional abilities.

E. Additional considerations for age-18 redeterminations

1. Young Adult Previously Found Disabled as a Child Under a Listing ⁴⁴

⁴⁴ See 20 CFR 404.1525(b) and 416.925(b). When we are making a disability determination or decision under title II for a person under age 18, we consider part B of the listings until the person attains age 18. We may also consider part A for the period before the person attains age 18 if there is no appropriate part B listing and the disease processes have a similar effect on adults and children. As for all adults, we use only part A of the Listing of Impairments when we determine whether a young adult's impairment(s) meets or medically equals a listing. We never use part B listings for people who are at least 18 years old.

a. Although our rules use different words to describe the concept, “listing-level severity” is generally the same for both parts A and B of the listings. Most of the part B listings have an equivalent listing in part A, and many contain identical criteria. Listings that include functioning among their criteria are generally based on a standard of “extreme” limitation in a specific function (such as walking) or in a broad area (domain) of functioning (such as concentration, persistence, or pace), or on “marked” limitations in two areas of functioning.

b. While the areas of functioning may differ between analogous listings in parts A and B, we intend for these criteria to be equally severe. Therefore, a child's impairment(s) that met or medically equaled a part B listing will often meet or medically equal a part A listing at age 18 unless the impairment(s) has medically improved. Note though that we do not use the medical improvement review standard for CDRs in age-18 redeterminations.⁴⁵

⁴⁵ A young adult who was eligible for disability benefits under title XVI may also file an application under title II; for example, for Child's Insurance Benefits based on disability. The same principle applies in such claims.

2. Young Adult Previously Found Disabled as a Child Based on Functional Equivalence

a. To functionally equal the listings under title XVI, a child's impairment(s) must result in “marked” limitations in two of the childhood domains or an “extreme” limitation in one.⁴⁶ Although we do not use these domains for adults, they describe aspects of functioning that are relevant to our evaluation of a young adult's work-related limitations. We use similar domains when we evaluate a child's mental impairments and some physical impairments, such as immune disorders. We may find that the young adult has the same severity rating for a domain under a part A listing as he or she had as a child under a similar functional equivalence domain. For example, absent medical improvement or new evidence demonstrating that the prior finding was in error, a young adult who had an extreme limitation in the ability to interact and relate with others as a child will probably have extreme limitation in social functioning as an adult. Similarly, unless the impairment(s) has improved or there is new evidence indicating that the prior finding was in error, a finding of marked limitation in the ability to attend and complete tasks as a child is likely to translate to a marked limitation in the ability to concentrate, persist, or maintain pace in work-related task completion as an adult.

⁴⁶ See 20 CFR 416.926a for the rules on functional equivalence, including a description of the six domains we use.

b. The broad domains of functioning we used to evaluate a child's impairment-related limitations may also provide guidance for findings about a young adult's RFC on redetermination. Accordingly, it is important to remember that the descriptions of the childhood functional equivalence domains in the regulations include work-related functions for adolescents, defined as children age 12-18.⁴⁷

⁴⁷ See generally 20 CFR 416.926a(g)-(l). See also the examples of typical functioning and limitations in SSRs 09-3 through 09-7 and the examples of limitations in SSR 09-8 (citations at the end of this SSR). These rulings are available at: http://www.ssa.gov/OP_Home/rulings/rulfind1.html#YRT2009.

V. Continued Payments for Young Adults Participating in a Vocational Rehabilitation or Similar Program ⁴⁸ (“Section 301”) ⁴⁹

⁴⁸ See 20 CFR 404.316(c), 404.352(d), 416.1320(d), and 416.1331(a)-(b).

⁴⁹ We commonly refer to this provision as “Section 301” because the initial legislative authority for continued payment of benefits was provided in Section 301 of the Social Security Disability Amendments of 1980 (Pub. L. 96-265).

A. When we determine that a young adult is no longer disabled due to medical improvement, we will continue payments if:

(1) He or she is participating in the Ticket to Work and Self-Sufficiency program or another appropriate program of vocational rehabilitation (VR), employment, or other support services ⁵⁰; and

⁵⁰ See 20 CFR 404.327(a) and 416.1338(c).

(2) Completion of the program or continued participation for a specified period will increase the likelihood that he or she will not return to the disability or blindness benefit rolls.⁵¹

⁵¹ See 20 CFR 404.328 and 416.1338(e).

The title XVI provision for Section 301 payments also applies to a person age 18 or older whose disability has ended as a result of a title XVI age-18 redetermination.⁵²

⁵² See 20 CFR 416.1338(a).

B. Likelihood Determination

1. When a young adult is a student age 18 through 21 participating in an IEP under the provisions of the IDEA, we will find that completion of or continuation in the IEP will increase the likelihood that he or she will not return to the disability or blindness benefit rolls.⁵³ In this circumstance, we will continue benefit payments until the IEP is completed or the person stops participating in the IEP for any reason.

⁵³ See 20 CFR 404.328(b) and 416.1338(e)(2).

2. When a young adult is participating in another appropriate program, we will find that completion of or continuation in that program will increase the likelihood that the person will not return to the disability or blindness benefit rolls if the program provides the person with:

a. Work experience that will increase the likelihood of doing past relevant work; or,

b. Education or skilled or semi-skilled work experience that will increase the likelihood of adjusting to other work.⁵⁴

⁵⁴ See 20 CFR 404.328(a) and 416.1338(e)(1).

For example, the young adult is in a VR-sponsored training program to become a certified computer technician. She is acquiring computer skills that will permit direct entry into semiskilled or skilled occupations, thus increasing her overall ability to adjust to other work. We would determine that the training program would increase the likelihood that she will not return to the disability or blindness benefit rolls.

VI. Resolving Inconsistencies in the Evidence

We evaluate relevant evidence for consistency and resolve any inconsistencies that need to be resolved.

1. After reviewing all of the relevant evidence, we determine whether there is sufficient evidence to make a finding about disability. “All of the relevant evidence” means:

• The relevant objective medical evidence and other relevant evidence from medical sources;

• Relevant information from other sources, such as school teachers, family members, or friends;

• The claimant's statements (including statements from the young adult's roommates or family members); and

• Any other relevant evidence in the case record, including how the young adult functions over time and across settings.

2. If there is sufficient evidence and there are no inconsistencies in the case record, we will make a determination or decision. If there are inconsistencies in the record, we may be able to make a determination or decision if the majority of the evidence or the most probative evidence outweighs the inconsistent evidence, and additional information would not change the determination or decision.

3. An inconsistency is not “material” if it would not affect the outcome of the case or any of the major findings. If we can make a fully favorable decision despite the inconsistent evidence, that inconsistency would be immaterial. For example, if a young adult has a digestive disorder that causes weight loss, and one piece of evidence shows a Body Mass Index (BMI) of 16.75 and another a BMI of 17.00, the inconsistency is not material because we would find that the young adult's impairment(s) meets listing 5.08 based on either BMI.

4. An inconsistency could also be immaterial in an unfavorable determination or decision when resolution of the inconsistency would not affect the outcome. This could occur, for example, if there is inconsistent evidence about a limitation in a specific work-related activity; for example, whether the person is able to climb ladders. If the person's overall exertional level was consistent with sedentary work, the ability (or inability) to climb a ladder would not reduce the number of sedentary occupations he or she could do.

5. An apparent inconsistency is not always a true inconsistency. For example, the record for a young adult with attention-deficit/hyperactivity disorder may include good, longitudinal evidence of hyperactivity at home, in the classroom, and on work experience placements in the classroom, but show a lack of hyperactivity during a consultative examination (CE). The observations during the CE may represent a “good” day, rather than the overall level of functioning or the effect of an unusual setting.⁵⁵ In this case, there would be only a normal variation in functioning at the time of the CE.

⁵⁵ See section 12.00C.3 of the listings. Accepting the observation of the young adult's behavior or performance in an unusual setting, like a CE, without considering the rest of the evidence could lead to an erroneous conclusion about the young adult's overall functioning.

6. In all other cases in which the evidence is insufficient, including when a material inconsistency exists that we cannot resolve based on an evaluation of all of the relevant evidence in the case record, we will try to complete the record by requesting additional or clarifying information.⁵⁶

⁵⁶ See 20 CFR 404.1527(c) and 416.927(c).

Effective Date: This SSR is effective on September 12, 2011.

Cross-References: SSR 82-61: Title II and XVI: Past Relevant Work—The Particular Job or The Occupation As Generally Performed; SSR 82-62: Titles II and XVI: A Disability Claimant's Capacity To Do Past Relevant Work, In General; SSR 83-12: Titles II and XVI: Capability To Do Other Work—The Medical-Vocational Rules as a Framework for Evaluating Exertional Limitations Within a Range of Work or Between Ranges of Work; SSR 83-14: Titles II and XVI: Capability To Do Other Work—The Medical-Vocational Rules as a Framework for Evaluating a Combination of Exertional and Nonexertional Impairments; SSR 83-33: Titles II and XVI: Determining Whether Work is Substantial Gainful Activity—Employees; SSR 83-34: Titles II and XVI: Determining Whether Work Is Substantial Gainful Activity—Self-Employed Persons; SSR 84-24: Titles II and XVI: Determination of Substantial Gainful Activity for Persons Working in Special Circumstances—Work Therapy Programs in Military Service—Work Activity in Certain Government-Sponsored Programs; SSR 84-25: Titles II and XVI: Determination of Substantial Gainful Activity If Substantial Work Activity Is Discontinued or Reduced—Unsuccessful Work Attempt; SSR 84-26: Titles II and XVI: Deducting Impairment-Related Work Expenses from Earnings in Determinations as to Substantial Gainful Activity Under Titles II and XVI and as to Countable Earned Income Under Title XVI; SSR 85-15: Titles II and XVI: Capability To Do Other Work—The Medical-Vocational Rules as a Framework for Evaluating Solely Nonexertional Impairments; SSR 96-8p: Titles II and XVI: Assessing Residual Functional Capacity in Initial Claims; SSR 96-9p: Titles II and XVI: Determining Capability To Do Other Work—Implications of a Residual Functional Capacity for Less Than a Full Range of Sedentary Work; SSR 00-1c: Sections 222(c) and 223(a), (d)(2)(a), and (e)(1) of the Social Security Act (42 U.S.C. 422(c) and 423(a), (d)(2)(A), and (e)(1)) Disability Insurance Benefits—Claims Filed Under Both the Social Security Act and the Americans with the Disabilities Act; SSR 05-2: Titles II and XVI: Determination of Substantial Gainful Activity if Substantial Work Activity is Discontinued or Reduced—Unsuccessful Work Attempt; SSR 06-03p: Titles II and XVI: Considering Opinions and Other Evidence from Sources Who Are Not “Acceptable Medical Sources” in Disability Claims; Considering Decisions on Disability by Other Governmental and Nongovernmental Agencies; SSR 09-2p: Title XVI: Determining Childhood Disability—Documenting a Child's Impairment-Related Limitations; SSR 09-3p: Title XVI: Determining Childhood Disability—The Functional Equivalence Domain of “Acquiring and Using Information”; SSR 09-4p: Title XVI: Determining Childhood Disability—The Functional Equivalence Domain of “Attending and Completing Tasks”; SSR 09-5p: Title XVI: Determining Childhood Disability—The Functional Equivalence Domain of “Interacting and Relating with Others”; SSR 09-6p: Title XVI: Determining Childhood Disability—The Functional Equivalence Domain of “Moving About and Manipulating Objects”; SSR 09-7p: Title XVI: Determining Childhood Disability—The Functional Equivalence Domain of “Caring for Yourself”; SSR 09-8p: Title XVI: Determining Childhood Disability—The Functional Equivalence Domain of “Health and Physical Well-Being”; Program Operations Manual System (POMS) RS 00301.120, RS 00301.140, DI 10501.055, DI 10505.00 ff., DI 10510.000 ff., DI 10520.000 ff., DI 11070.001—DI 11070.010, DI 11070.030, DI 14510.000 ff., DI 22001.001—DI 22001.035, DI 23570.010, DI 23570.020, DI 24510.000 ff., DI 25015.000 ff., DI 25020.000 ff., and DI 28005.001—DI 28005.017.

[FR Doc. 2011-23239 Filed 9-9-11; 8:45 am]

BILLING CODE 4191-02-P